DEPARTMENT OF COMMERCE

International Trade Administration

[A-583-854]

Certain Steel Nails From Taiwan: Final Results of Antidumping Duty Administrative Review and Final Determination of No Shipments; 2020-2021

AGENCY: Enforcement and Compliance, International Trade Administration, U.S. Department of Commerce.

SUMMARY: The U.S. Department of Commerce (Commerce) determines that certain steel nails from Taiwan were sold in the United States at less than normal value during the period of review (POR), July 1, 2020, through June 30, 2021. Commerce also determines that certain companies under review made no shipments of certain steel nails from Taiwan during the POR.

DATES: Applicable October 18, 2022.

FOR FURTHER INFORMATION CONTACT: Irene Gorelik, AD/CVD Operations, Office VIII, Enforcement and Compliance, International Trade Administration, Department of Commerce, 1401 Constitution Avenue NW, Washington, DC 20230; telephone: (202) 482-6905.

SUPPLEMENTARY INFORMATION:

Background

Commerce published the Preliminary Results of the administrative review of certain steel nails from Taiwan on June 13, 2022.¹ The review covers 69 companies, including three mandatory respondents,² six companies claiming no shipments of subject merchandise during the POR, and 59 companies not selected for individual examination.

¹ See Certain Steel Nails from Taiwan: Preliminary Results of Antidumping Duty Administrative Review, Preliminary Determination of No Shipments, and Partial Rescission of Review; 2020-2021, 87 FR 35734 (June 13, 2022) (Preliminary Results).

² The mandatory respondents are: King Chuang Wen Trading Co., Ltd. (King Chuang); the single entity comprising Liang Chyuan Industrial Co., Ltd. and Integral Building Products Inc. (collectively, Liang Chyuan); and Liang Kai Co.

Scope of the Order ³

³ See Certain Steel Nails from the Republic of Korea, Malaysia, the Sultanate of Oman, Taiwan, and the Socialist Republic of Vietnam: Antidumping Duty Orders, 80 FR 39994 (July 13, 2015) (Order).

The merchandise covered by this Order is certain steel nails from Taiwan. The certain steel nails subject to the Order are currently classifiable under Harmonized Tariff Schedule of the United States (HTSUS) subheadings 7317.00.55.02, 7317.00.55.03, 7317.00.55.05, 7317.00.55.07, 7317.00.55.08, 7317.00.55.11, 7317.00.55.18, 7317.00.55.19, 7317.00.55.20, 7317.00.55.30, 7317.00.55.40, 7317.00.55.50, 7317.00.55.60, 7317.00.55.70, 7317.00.55.80, 7317.00.55.90, 7317.00.65.30, 7317.00.65.60 and 7317.00.75.00. Certain steel nails subject to this Order also may be classified under HTSUS subheadings 7907.00.60.00, 8206.00.00.00 or other HTSUS subheadings. While the HTSUS subheadings are provided for convenience and customs purposes, the written description of the scope of this Order is dispositive. For a complete description of the scope of the Order, see the Issues and Decision Memorandum.⁴

⁴ See Memorandum, “Issues and Decision Memorandum for the Final Results and Final Determination of No Shipments in the Antidumping Duty Administrative Review: Certain Steel Nails from Taiwan; 2020-2021,” dated concurrently with, and hereby adopted by, this notice (Issues and Decision Memorandum).

Analysis of Comments Received

We addressed all issues raised in parties' case and rebuttal briefs in the Issues and Decision Memorandum. A list of the issues addressed in the Issues and Decision Memorandum is included in Appendix I of this notice. The Issues and Decision Memorandum is a public document and is on file electronically via Enforcement and Compliance's Antidumping and Countervailing Duty Centralized Electronic Service System (ACCESS). ACCESS is available to registered users at https://access.trade.gov. In addition, a complete version of the Issues and Decision Memorandum can be accessed directly at https://access.trade/gov/public/FRNoticesListLayout.aspx.

Final Determination of No Shipments

In the Preliminary Results, Commerce determined that the following companies had on shipments of subject merchandise during the POR: Astrotech Steels Private Limited; Geekay Wires Limited; Region Industries Co., Ltd.; and Region System Sdn. Bhd.⁵ As we have not received any information to contradict this determination, consistent with our practice, we will instruct U.S. Customs and Border Protection (CBP) to liquidate any existing entries of subject merchandise produced by these four companies, but exported by other parties, at the rate for the intermediate reseller, if available, or at the all-others rate.

⁵ See Preliminary Results, 87 FR at 35736.

Further, in the Preliminary Results, Commerce determined that resellers Create Trading Co., Ltd. (Create Trading) and Wiresmith Industrial Co., Ltd. (Wiresmith) had no shipments of subject merchandise during the POR.⁶ As we find that there is no evidence on the record of this review which warrants a different determination, we continue to find that Create Trading and Wiresmith had no shipments during the POR. As discussed further in the “Assessment Rates” section below, we will instruct CBP to liquidate any existing entries of subject merchandise produced by Create's and Wiresmith's respective unaffiliated suppliers and attributed to Create and Wiresmith at the rate applicable to the unaffiliated producers, which, as discussed below, in this case is the all-others rate.⁷

⁶ See Create Trading's Letter, “Statement of No Sales to the United States,” dated October 7, 2021; see also Wiresmith Letter, “Statement of No Sales to the United States,” dated October 7, 2021. Specifically, both companies certified that all of their exports of subject merchandise were produced by unaffiliated producers that had knowledge of final destination to the United States; thus, both companies certified that they had no shipments or sales for this POR.

⁷ See Antidumping and Countervailing Duty Proceedings: Assessment of Antidumping Duties, 68 FR 23954, 23954 (May 6, 2003) (Assessment of Antidumping Duties); see also Certain Pasta from Turkey: Notice of Preliminary Results of Antidumping Duty Administrative Review, 76 FR 23974, 23977 (April 29, 2011), unchanged in Pasta from Turkey: Notice of Final Results of the 14th Antidumping Duty Administrative Review, 76 FR 68399 (November 4, 2011).

Rate for Non-Selected Companies

As we stated in the Preliminary Results, in accordance with the U.S. Court of Appeals for the Federal Circuit's decision in Albemarle,⁸ we preliminarily applied a review-specific rate to the companies not selected for individual examination based on the individual rates preliminarily applied to the three mandatory respondents in this administrative review (i.e., 78.17 percent). This determination is unchanged for the final results.

⁸ See Preliminary Results, 87 FR at 35736; see also Albemarle Corp. v. United States, 821 F.3d 1345 (Fed. Cir. 2016) (Albemarle); Primesource Building Products Inc., et al. v. United States, Slip Op. 22-73 (CIT June 16, 2022).

Final Results of Review

We have determined the following dumping margins for the firms listed below for the period July 1, 2020, through June 30, 2021:

Exporter/producer | Weighted-average dumping margin (percent)
King Chuang Wen Trading Co., Ltd | 78.17
Liang Chyuan Industrial Co., Ltd./Integral Building Products Inc | 78.17
Liang Kai Co | 78.17
Review-Specific Average Rate Applicable to Companies Under Review Not Selected for Individual Examination
See Appendix II for the 59 companies under review subject to the review-specific rate | 78.17

Disclosure

Normally, Commerce will disclose the calculations performed in connection with the final results of review to parties to the proceeding in accordance with 19 CFR 351.224(b). However, as there were no margin calculations performed in the instant review, there are no calculations to disclose for the final results of this review.

Assessment Rates

Pursuant to section 751(a)(2)(A) of the Tariff Act of 1930, as amended (the Act), and 19 CFR 351.212(b)(1), Commerce will determine, and CBP shall assess, antidumping duties on all appropriate entries of subject merchandise in accordance with the final results of this review. For these final results, we will instruct CBP to apply an ad valorem assessment rate of 78.17 percent to all entries of subject merchandise during the POR which were produced and/or exported by the mandatory respondents, King Chuang, Liang Chyuan, and Liang Kai Co., and the 59 companies which were not selected for individual examination.

As indicated above, for each company which we determined had “no shipments” of the subject merchandise during the POR, we will instruct CBP to liquidate all POR entries associated with these companies at the all-others rate ⁹ if there is no rate for the intermediate company(ies) involved in the transaction, consistent with Commerce's reseller policy.¹⁰

⁹ The all-others rate from the underlying investigation was revised to 2.16 percent in Certain Steel Nails from Taiwan: Notice of Court Decision Not in Harmony with Final Determination in Less than Fair Value Investigation and Notice of Amended Final Determination, 82 FR 55090, 55091 (November 20, 2017).

¹⁰ See, e.g., Magnesium Metal from the Russian Federation: Preliminary Results of Antidumping Duty Administrative Review, 75 FR 26922, 26923 (May 13, 2010), unchanged in Magnesium Metal from the Russian Federation: Final Results of Antidumping Duty Administrative Review, 75 FR 56989 (September 17, 2010). For a full discussion of this practice, see Assessment of Antidumping Duties.

Finally, with respect to the two resellers, as discussed in the Preliminary Results,¹¹ consistent with our reseller policy, we find it appropriate in this case to instruct CBP to liquidate any existing entries of subject merchandise produced by Create Trading's and Wiresmith's respective unaffiliated suppliers and attributed to Create Trading and Wiresmith at the rate applicable to the unaffiliated producer(s).¹² Because none of the producer(s) have their own rates, we will instruct CBP to liquidate entries at the all-others rate from the investigation, as revised, of 2.16 percent, in accordance with the reseller policy.

¹¹ See Preliminary Results, 87 FR at 35737.

¹² See Assessment of Antidumping Duties; see also Certain Frozen Warmwater Shrimp from India: Partial Rescission of Antidumping Duty Administrative Review, 73 FR 77610, 77612 (December 19, 2008); Certain Pasta from Turkey: Notice of Preliminary Results of Antidumping Duty Administrative Review, 76 FR 23974, 23977 (April 29, 2011), unchanged in Pasta from Turkey: Notice of Final Results of the 14th Antidumping Duty Administrative Review, 76 FR 68399 (November 4, 2011).

Commerce intends to issue assessment instructions to CBP no earlier than 35 days after the date of publication of the final results of this review in the Federal Register. If a timely summons is filed at the U.S. Court of International Trade, the assessment instructions will direct CBP not to liquidate relevant entries until the time for parties to file a request for a statutory injunction has expired (i.e., within 90 days of publication).

Cash Deposit Requirements

The following cash deposit requirements will be in effect for all shipments of the subject merchandise entered, or withdrawn from warehouse, for consumption on or after the publication date of the final results of this administrative review, as provided by section 751(a)(2)(C) of the Act: (1) the cash deposit rate for King Chuang, Liang Chyuan, and Liang Kai Co. and the companies listed in Appendix II will be equal to the dumping margin established in the final results of this administrative review; (2) for previously reviewed or investigated companies not listed above, the cash deposit rate will continue to be the company-specific rate published for the most recently completed segment of this proceeding in which they were reviewed; (3) if the exporter is not a firm covered in this review, a prior review, or in the investigation, but the producer is, then the cash deposit rate will be the rate established for the most recently completed segment of this proceeding for the producer of the merchandise; and (4) the cash deposit rate for all other manufacturers or exporters will continue to be 2.16 percent, the all-others rate. These cash deposit requirements, when imposed, shall remain in effect until further notice.

Notification to Importers

This notice serves as a final reminder to importers of their responsibility under 19 CFR 351.402(f)(2) to file a certificate regarding the reimbursement of antidumping duties prior to liquidation of the relevant entries during the POR. Failure to comply with this requirement could result in Commerce's presumption that reimbursement of antidumping duties occurred and the subsequent assessment of double antidumping duties.

Administrative Protective Order

This notice also serves as a final reminder to parties subject to an administrative protective orders (APO) of their responsibility concerning the return or destruction of proprietary information disclosed under APO in accordance with 19 CFR 351.305(a)(3), which continues to govern business proprietary information in this segment of the proceeding. Timely written notification of the return/destruction of APO materials, or conversion to judicial protective order, is hereby requested. Failure to comply with the regulations and the terms of an APO is a sanctionable violation.

Notification to Interested Parties

We are issuing and publishing this notice in accordance with sections 751(a)(1) and 777(i)(1) of the Act, and 19 CFR 351.221(b)(5).

Dated: October 11, 2022.
Lisa W. Wang,
Assistant Secretary for Enforcement and Compliance.

Appendix—List of Topics Discussed in the Issues and Decision Memorandum

I. Summary

II. Background

III. Scope of the Order

IV. Discussion of the Issues

Comment 1: Whether To Apply Adverse Facts Available (AFA) To Create Trading Co., Ltd. (Create Trading)

Comment 2: Whether to Publicly Disclose the Names of Create Trading's Unaffiliated Suppliers

V. Recommendation

Appendix II—List of Companies Under Review Not Selected for Individual Examination

1. Acu-Transport Co., Ltd.

2. Allwin Architectural Hardware Inc.

3. Alsons Manufacturing India LLP

4. An Chen Fa Machinery Co., Ltd.

5. Bollore Logistics India Private Ltd.

6. Bon Voyage Logistics Inc.

7. Boss Precision Works Co., Ltd.

8. C.H. Robinson Freight Services Ltd.

9. C.H.Robinson World Wide India Pvt. Ltd.

10. Casia Global Logistics Co., Ltd.

11. Chief Ling Entreprise Co., Ltd

12. China Intl. Freight Co., Ltd.

13. China Sea Forwarders Co., Ltd.

14. Crane Worldwide Logistics LLC

15. De Well Container Shipping Inc.

16. DHL Global Forwarding Sg. Pte. Ltd.

17. Diversified Freight System Corporation

18. Eusu Logistics Co., Ltd.

19. Evergreen Logistics Corp.

20. Everise Global Logistics Co., Ltd.

21. Grandlink Logistics Co., Ltd.

22. Honour Lane Logistics Company Ltd.

23. Honour Lane Shipping Ltd.

24. Houseware Taiwan Industries Ltd.

25. Inmax Industries Sdn. Bhd.

26. K.E. & Kingstone Co., Ltd.

27. Kay Guay Entreprises Co., Ltd.

28. Kerry Indev Logistics Private Limited

29. King Compass Logistics Limited

30. King Freight International Corp.

31. Lien Bin Industries Co., Ltd.

32. New Marine Consolidator Co., Ltd.

33. NMC Logistics International Co., Ltd.

34. Oceanlink/Topair International Co.

35. OEC Freight Worldwide Co., Ltd.

36. Orient Containers Sdn., Bhd.

37. Orient Express Container Co., Ltd.

38. Orient Star International Logistics Co., Ltd.

39. Orient Star Transport International Ltd.

40. Oriental Vanguard Logistics Co., Ltd.

41. Pacific Concord International Ltd.

42. Pacific Star Express Corp.

43. Panda Logistics Co., Ltd.

44. Ray Fu Entreprise Co., Ltd.

45. SAR Transport Systems Pvt. Ltd.

46. Schenker (H.K.) Ltd.

47. Storeit Services LLP.

48. Success Progress International Tran

49. T.H.I. Logistics Co., Ltd.

50. T.V.L. Container Line Limited

51. The Ultimate Freight Management (Taiwan) Ltd.

52. Topocean Consolidation Service (Taiwan) Ltd.

53. Trans Luck Global Logistics Co., Ltd.

54. Trans Wagon International Co., Ltd.

55. Transwell Logistics Co., Ltd.

56. Transworld Transportation Co., Ltd.

57. UPS Supply Chain Solutions (Taiwan) Co., Ltd.

58. Valuemax Products Co., Ltd.

59. Worldwide Logistics Co., Ltd.

[FR Doc. 2022-22619 Filed 10-17-22; 8:45 am]

BILLING CODE 3510-DS-P